ENVIRONMENTAL PROTECTION AGENCY

[EPA-HQ-OAR-2004-0016; FRL-8327-7]

Agency Information Collection Activities; Submission to OMB for Review and Approval; Comment Request; Federal Operating Permit Regulations (Renewal); EPA ICR No. 1713.06, OMB Control No. 2060-0336

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before July 16, 2007.

ADDRESSES: Submit your comments, referencing Docket ID No. EPA-HQ-OAR-2004-0016, to (1) EPA online using www.regulations.gov (our preferred method), by e-mail to a-and-r-Docket@epa.gov, or by mail to: EPA Docket Center, Environmental Protection Agency, Air and Radiation Docket and Information Center, Mail Code 2822T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Jeff Herring, Air Quality Policy Division (C504-05), Office of Air Quality Planning and Standards, U.S. Environmental Protection Agency, Research Triangle Park, NC 27711; telephone number: (919) 541-3195; fax number: (919) 541-5509; e-mail address: herring.jeff@epa.gov.

SUPPLEMENTARY INFORMATION: EPA has submitted the following ICR to OMB for review and approval according to the procedures prescribed in 5 CFR 1320.12. On February 9, 2007 (72 FR 6233), EPA sought comments on this ICR pursuant to 5 CFR 1320.8(d). EPA received no comments during the comment period. Any additional comments on this ICR should be submitted to EPA and OMB within 30 days of this notice.

EPA has established a public docket for this ICR under Docket ID No. EPA-HQ-OAR-2004-0016, which is available for online viewing at www.regulations.gov, or in person viewing at the Air and Radiation Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Air and Radiation Docket is 202-566-1742.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, CBI, or other information whose public disclosure is restricted by statute. For further information about the electronic docket, go to www.regulations.gov.

Title: Federal Operating Permit Regulations (Renewal).

ICR numbers: EPA ICR No. 1713.06, OMB Control No. 2060-0336.

ICR Status: This ICR was scheduled to expire on March 31, 2007, but an emergency extension granted by OMB on March 13, 2007 extended the expiration date to June 30, 2007. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: Title V of the Clean Air Act (Act) requires States to develop and implement a program for issuing operating permits to all sources that fall under any Act definition of “major” and certain other non-major sources that are subject to Federal air quality regulations. The Act further requires EPA to develop regulations that establish the minimum requirements for those State operating permits programs, to oversee implementation of the State programs, and to operate a Federal operating permits program in areas not subject to an approved State program.

The EPA regulations setting forth requirements for the Federal operating permits program are at part 71, title 40, chapter I of the Code of Federal Regulations. These are referred to as the “Part 71 Federal Operating Permit Regulations,” which are the subject of the ICR addressed in this notice. The part 71 program is being implemented for sources located in Indian country, Outer Continental Shelf sources, and in areas that do not have part 70 programs.

Burden Statement: The annual public reporting and recordkeeping burden for the part 71 collection of information is estimated to average 221 hours per permitted source. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Sources are required to obtain a part 71 permit from EPA if (1) they are located in areas where there is no approved State, local, or Tribal part 70 program (such as Indian country, the Outer Continental Shelf, and Deepwater ports); (2) they are located in areas where the State, local, or Tribal permitting authority is deficient in implementing an approved part 70 program (none currently or expected); or (3) if EPA has objected to a draft part 70 permit and the State, local, or Tribal permitting authority has failed to adequately resolve the objection (rare).

Estimated Number of Respondents: 123 sources.

Frequency of Response: Sources must apply for an initial permit when the source becomes subject, renew permits every 5 years, submit monitoring reports semi-annually, and submit a compliance certification annually. In addition, approximately 50 percent of sources apply for an administrative amendment each year, 50 percent for a minor permit modification, and 10 percent for a significant permit modification.

Estimated Total Annual Hour Burden: 27,218 hours for sources.

Estimated Total Annual Cost: $1,128,784 for sources, includes $0 annualized capital or O&M costs.

Changes in the Estimates: There is an increase of 3,141 hours in the estimated annual burden for sources compared with that identified in the ICR currently approved by OMB. This increase is due to the larger number of sources that will be subject to non-delegated program administration by EPA as a consequence of there being more major sources subject to the program (123 as opposed to 105 in the last ICR) and as a normal consequence of changes in the mix of source activities over time. The increase is not due to any EPA actions to revise regulations or policy since the last ICR update. In its role as the permitting authority for the part 71 program, EPA's estimated annual burden will decrease by over 24,000 hours as compared to the currently approved ICR. This reduction is due to a change in assumptions to eliminate the scenario where EPA issues a Notice of Deficiency and takes over permitting in a State due to poor implementation or enforcement of a part 70 program.

Dated: June 6, 2007.
Sara Hisel-McCoy,
Acting Director, Collection Strategies Division.

[FR Doc. E7-11572 Filed 6-14-07; 8:45 am]

BILLING CODE 6560-50-P